EQUAL EMPLOYMENT OPPORTUNITY COMMISSION

Privacy Act of 1974; Publication of Notices of Systems of Records and Proposed New Systems of Records

AGENCY: Equal Employment Opportunity Commission.

ACTION: Notice; publication of notices of systems of records, and proposed new systems of records.

SUMMARY: This notice proposes four new systems of records and changes to a number of existing systems of records. This notice republishes all of EEOC's notices for its systems of records subject to the Privacy Act in one issue of the Federal Register so that an accurate and complete text of the notices is available for use by individuals and by agency Privacy Act officers.

DATES: The changes to the existing systems of records are effective on July 30, 2002. The proposed new systems of records will become effective, without further notice, on September 27, 2002, unless comments dictate otherwise.

ADDRESSES: Written comments may be sent to the Office of Executive Secretariat, Equal Employment Opportunity Commission, Room 10402, 1801 L Street, NW., Washington, DC 20507. Copies of this notice are available in the following alternate formats: large print, braille, electronic file on computer disk, and audio-tape. Copies may be obtained from the Publications Center by calling 1-800-699-3362.

FOR FURTHER INFORMATION CONTACT: Thomas J. Schlageter, Assistant Legal Counsel or Kathleen Oram, Senior Attorney (202) 663-4669 (voice) or (202) 663-7026 (TDD).

SUPPLEMENTARY INFORMATION: The Equal Employment Opportunity Commission last published its Privacy Act systems notices in 1994. The Commission proposes four new systems of records to cover, in two cases, new programs that will collect individually identifiable records and, in the other two cases, existing records that through the use of information technology have become individually identifiable. In addition, the Commission is amending several of its systems to include additional categories of individuals or of records. The Commission is adding two new routine uses to its two private sector case files systems and four new routine uses to its government-wide system of records covering federal sector complaint and appeal records. Finally, the Commission has amended several system notices to reflect current office names and has amended Appendix A to reflect current addresses of Commission offices. To ensure that users will have a copy of the current text of each of its system notices, the Commission is publishing the complete text of all of its systems notices.

A brief description of the major changes follows:

EEOC-1 Age and Equal Pay Act Discrimination Case Files. A new category of individuals was added to cover individuals who file complaints under section 321 of the Government Employees Rights Act of 1991.

EEOC-1 Age and Equal Pay Act Discrimination Case Files and EEOC-3 Title VII and Americans With Disabilities Act Discrimination Case Files. Two new routine uses are proposed for each system. One would permit disclosure of information to officials of state or local bar associations or disciplinary boards or committees when they are investigating complaints against attorneys in connection with their representation of a party before EEOC. The proposed routine use in EEOC-3, the Title VII and ADA case files system, is limited to disciplinary boards or committees under the control of a state or local government because these files are covered by the confidentiality provisions contained in Title VII, 42 U.S.C. 2000e-5(b) and 8(e), and may not be disclosed to members of the public. Officials of state or federal governments are not members of the public. The second new routine use would permit disclosure of information to federal officials in connection with hiring, issuing a security clearance, or conducting a background check. The Commission has determined that these proposed routine uses are compatible with the law enforcement purpose of the systems of records.

EEOC-5 General Correspondence Records. The system of records was amended to cover all correspondence and communications, by letter, phone call, or email, throughout the agency to reflect the use of computerized tracking systems in many offices.

EEOC-7 Employee Pay and Leave Records. Routine use i was amended to replace the General Services Administration with the Department of Interior. EEOC has switched its pay and leave system administration from the General Services Administration to the Department of the Interior.

EEOC-8 Employee Travel and Reimbursement Records. Routine use e was amended to replace the General Services Administration with the Department of Interior. EEOC has switched its financial management administrative services from GSA to the Department of the Interior.

EEOC-9 Claims Collection Records. Routine use j was amended to replace the General Services Administration with the Department of Interior. EEOC has switched its financial management administrative services from GSA to the Department of the Interior.

EEOC-12 Telephone Call Detail Records. The categories of individuals and records were amended to include U.S. government phone card holders and phone card records, including billing records.

EEOC-13 Employee Identification Cards. The categories of records was amended to cover proximity card lists and records throughout the agency, where applicable. The system was previously limited to Headquarters proximity card holders.

EEOC-15 Internal Harassment Inquiries. The Commission approved an internal order governing investigations of allegations of harassment made by EEOC employees. This new system of records covers current or former EEOC employees' complaints or reports of harassment, witness statements, reports of interviews, findings and recommendations, decisions and corrective actions taken and related correspondence and exhibits. Nine routine uses are proposed for the system. In addition, it is proposed to exempt this system from certain provisions of the Privacy Act pursuant to section (k)(2) of the Act. A Notice of Proposed Rulemaking is published separately in today's Federal Register proposing amendments to EEOC's Privacy Act regulations that describe this exemption.

EEOC-16 Office of Inspector General Investigative Files. The Office of the Inspector General has reorganized its filing system and will be maintaining its investigative files by the name of the individuals who are subjects of investigations by the Office relating to the programs and operations of the EEOC. The Commission is adding a system of records covering those files. Six routine uses are proposed for the new system. In addition, it is proposed to exempt this system of records from certain provisions of the Privacy Act pursuant to sections (j)(2) and (k)(2) of the Act. A Notice of Proposed Rulemaking is published separately in today's Federal Register proposing amendments to EEOC's Privacy Act regulations that describe those exemptions.

EEOC-17 Defensive Litigation Files. The Commission's Office of Legal Counsel has upgraded its computerized tracking system and filing system covering its defensive litigation files and has created a set of files containing testimony, affidavits and declarations given by individuals during EEOC's defense of lawsuits brought against the agency. Consequently, the Commission is adding a system of records covering the Office of Legal Counsel's defensive litigation files. The system covers all documents related to civil or administrative litigation brought against the Commission, which are retrievable by the name of the individual who filed the litigation or the name of the individual witnesses who gave testimony, affidavits or declarations during the course of such litigation. Five routine uses are proposed for the new system.

EEOC-18 Reasonable Accommodation Records. The Commission has issued an internal order establishing procedures for providing reasonable accommodation for individuals with disabilities under the Rehabilitation Act of 1973. This new system of records covers all current and former EEOC employees and applicants' requests for reasonable accommodations, medical records, notes or records made about requests, decisions on requests and records made to implement or track decisions on requests. Four routine uses are proposed for the system.

The proposed routine uses in the four new systems of records noted above meet the compatibility criteria since the information involved is collected for the purpose of the applicable routine uses. We anticipate that any disclosure pursuant to these routine uses will not result in any unwarranted adverse effects on personal privacy.

EEOC/GOVT-1 Equal Employment Opportunity in the Federal Government Complaint and Appeal Records. The two routine uses proposed to be added to EEOC-1 and EEOC-3, permitting disclosure to bar associations or disciplinary boards and to federal agencies when hiring, or conducting background checks or security clearances are proposed to be added to this system as well. They are described in greater detail above. In addition, the Commission proposes to add a new routine use permitting disclosure of information to employees of contractors engaged by an agency to carry out the agency's responsibilities under 29 CFR part 1614. Finally, the Commission proposes to add a new routine use permitting disclosure of information to potential witnesses during the course of an investigation, as may be appropriate and necessary to perform the agency's functions under 29 CFR part 1614. The Commission has determined that these four proposed routine uses are compatible with the law enforcement purpose of the system of records.

A complete list of all EEOC systems of records is published below. The complete text of the notices follows.

For the Commission.
Cari M. Dominguez,
Chair.

EEOC Systems of Records

EEOC-1 Age and Equal Pay Act Discrimination Case Files.

EEOC-2 Attorney Referral List.

EEOC-3 Title VII and Americans With Disabilities Act Discrimination Case Files.

EEOC-4 Biographical Files.

EEOC-5 Correspondence and Communications.

EEOC-6 Employee Assistance Program Records.

EEOC-7 Employee Pay and Leave Records.

EEOC-8 Employee Travel and Reimbursement Records.

EEOC-9 Claims Collection Records.

EEOC-10 Grievance Records.

EEOC-11 Records of Adverse Actions Against Nonpreference Eligibles in the Excepted Service.

EEOC-12 Telephone Call Detail Records.

EEOC-13 Employee Identification Cards.

EEOC-14 Employee Parking Records.

EEOC-15 Internal Harassment Inquiries.

EEOC-16 Office of Inspector General Investigative Files.

EEOC-17 Defensive Litigation Files.

EEOC-18 Reasonable Accommodation Records.

EEOC/GOVT-1 Equal Employment Opportunity in the Federal Government Complaint and Appeal Records.

EEOC-1

System Name:

Age and Equal Pay Act Discrimination Case Files.

System Location:

Field Office where the charge or complaint of discrimination was filed (see Appendix A). Records of complaints filed under section 321 of the Government Employees Rights Act of 1991 are located in the Office of Federal Operations, 1801 L Street, NW., Washington, DC 20507, after a hearing has been requested.

Categories of Individuals Covered by the System:

Persons other than federal employees and applicants who file charges or complaints with EEOC alleging that an employer, employment agency or labor organization has violated the Age Discrimination in Employment Act of 1967 or the Equal Pay Act of 1963, or who file complaints under section 321 of the Government Employees Rights Act of 1991.

Categories of Records in the System:

This system contains the records compiled during the investigation of age and equal pay discrimination cases and during the investigation and hearing of complaints filed under section 321 of the Government Employees Rights Act of 1991. These records include:

a. Documents submitted by charging party or complainant such as charge of discrimination, personal interview statement, and correspondence.

b. Documents submitted by employer such as statement of position, correspondence, statements of witnesses, documentary evidence such as personnel files, records of earnings, employee benefit plans, seniority list, job titles and descriptions, applicant data, organizational charts, collective bargaining agreements, petition to revoke or modify subpoena.

c. Records gathered and generated by EEOC in the course of its investigation and, in complaints filed under section 321 of the Government Employees Rights Act of 1991, during the hearing, such as letters of referral to state fair employment practices agencies, correspondence with state fair employment practices agencies, witness statements, investigator's notes, investigative plan, report of initial and exit interview, investigator's analyses of evidence and charge, subpoenas, decisions and letters of determination, conciliation agreements, correspondence and any additional evidence gathered during the course of the investigation.

Authority for Maintenance of the System:

5 U.S.C. 301; 29 U.S.C. 209, 211, 216, 217, 625; 44 U.S.C. 3101; 2 U.S.C. 1220.

Purpose(s):

This system is maintained for the purpose of enforcing the prohibitions against employment discrimination contained in the Age Discrimination in Employment Act, the Equal Pay Act and section 321 of the Government Employees Rights Act of 1991.

Routine Uses of Records Maintained in the System, Including Categories of Users and the Purposes of Such Uses:

These records and information in these records may be used:

a. To disclose pertinent information to a federal, state, or local agency or third party as may be appropriate or necessary to perform the Commission's functions under the Age Discrimination in Employment Act or Equal Pay Act.

b. To disclose information contained in these records to state and local agencies administering state or local fair employment practices laws.

c. To disclose non-confidential and non-privileged information from closed ADEA/EPA case files (a file is closed when the Commission has terminated its investigation and has decided not to sue) to the employer where a lawsuit has been filed against the employer involving that information, to other employees of the same employer who have been notified by the Commission of their right under 29 U.S.C. 216 to file a lawsuit on their own behalf, and their representatives.

d. To provide information to a congressional office from the record of an individual in response to an inquiry from the congressional office made at the request of a party to the charge.

e. To disclose pertinent information to the appropriate federal, state or local agency responsible for investigating, prosecuting, enforcing or implementing a statute, rule, regulation or order, where the EEOC becomes aware of an indication of a violation or potential violation of civil or criminal law or regulation.

f. To disclose information to another federal agency, to a court, or to a party in litigation before a court or in an administrative proceeding being conducted by a federal agency when the government is a party to the judicial or administrative proceeding.

g. To disclose information to officials of state or local bar associations or disciplinary boards or committees when they are investigating complaints against attorneys in connection with their representation of a party before EEOC.

h. To disclose to a Federal agency in the executive, legislative, or judicial branch of government, in response to its request information in connection with the hiring of an employee, the issuance of a security clearance, the conducting of a security or suitability investigation of an individual, the classifying of jobs, or the lawful statutory, administrative, or investigative purpose of the agency to the extent that the information is relevant and necessary to the requesting agency's decision.

Policies and Practices for Storing, Retrieving, Accessing, Retaining, and Disposing of Records in the System:

Storage:

These records are maintained in file folders and in computer databases.

Retrievability:

These records are retrievable by charging party name, employer name and charge number.

Safeguards:

Paper records are maintained in a secured area to which only authorized personnel have access. Access to and use of these records is limited to those persons whose official duties require such access. The premises are locked when authorized personnel are not on duty. Access to computerized records is limited, through use of access codes and entry logs, to those whose official duties require access.

Retention and Disposal:

Cases that are dismissed or closed for other than no cause are destroyed six months following the date of dismissal or closure. No cause files that are of value in the development of future class action or pattern and practice cases are retired to the Federal Records Center one year after the date of the last action and destroyed after three additional years. All other no cause files are destroyed one year after the date of the last action. Negotiated settlement files are destroyed one year after the calendar year in which the settlement agreement is signed or after all obligations under the agreement are satisfied, whichever occurs later. Where monetary benefits are realized in concurrent Age, Equal Pay, and Title VII cases, the file is destroyed three years after the date of the last action. Other files are retired to the Federal Records Center one year after the date of the last action, including action in the federal courts or the last compliance review (the final report submitted by the respondent after conciliation to indicate compliance) and destroyed after three additional years, except landmark cases. Landmark cases are transferred to the nearest Federal Records Center two years after final court action and offered to the National Archives ten years after final court action.

System Manager(s) and Address:

Director of the field office where the charge was filed (see Appendix A). Director of the Office of Federal Operations, 1801 L Street, NW., Washington, DC 20507.

System Exempted from Certain Provisions of the Act:

This system is exempt under 5 U.S.C. 552a(k)(2) from subsections (c)(3), (d), (e)(1), (e)(4)(G), (e)(4)(H), (e)(4)(I) and (f) of the Act.

EEOC-2

System Name:

Attorney Referral List.

System Location:

All District Offices (see Appendix A).

Categories of Individuals Covered by the System:

Attorneys who represent plaintiffs in employment discrimination litigation.

Categories of Records in the System:

This system contains attorneys' names, business addresses and telephone numbers, the nature and amount of civil rights litigation experience, state and federal bar admission, whether the attorneys have the capacity and desire to handle class actions; whether the attorneys charge consultation fees (and how much); whether the attorneys will waive the consultation fee; the types of fee arrangements the attorneys will accept, and whether the attorneys speak a foreign language fluently.

Authority for Maintenance of the System:

42 U.S.C. 2000e-4(g); 44 U.S.C. 3101.

Purpose(s):

This system is maintained for the purpose of providing charging parties, upon their request, with information about local attorneys who represent plaintiffs in employment discrimination litigation.

Routine Uses of Records Maintained in the System, Including Categories of Users and the Purposes of Such Uses:

These records and information in these records may be used:

a. To refer charging parties to attorneys who handle litigation of employment discrimination lawsuits.

b. To provide information to a congressional office from the record of an individual in response to an inquiry from the congressional office made at the request of the individual.

Policies and Practices for Storing, Retrieving, Accessing, Retaining, and Disposing of Records in the System:

Storage:

Stored on prepared forms, index cards and computer databases.

Retrievability:

Indexed alphabetically by names of the attorneys.

Safeguards:

Access to this system of records is restricted to EEOC personnel who have a legitimate use for the information. This system is stored in filing cabinets. Access to computerized records is limited, through use of access codes and entry logs, to those whose official duties require access.

Retention and Disposal:

Files are reviewed and updated annually.

System Manager(s) and Address:

Regional Attorney at each District Office (see Appendix A).

Notification Procedure:

Inquiries concerning this system of records should be addressed to the appropriate system manager. It is necessary to furnish the following information: (1) Full name of the individual whose records are requested; (2) mailing address to which reply should be sent.

Record Access Procedures:

Same as above.

Contesting Record Procedures:

Same as above.

Record Source Categories:

The individual on whom the record is maintained.

EEOC-3

System Name:

Title VII and Americans With Disabilities Act Discrimination Case Files.

System Location:

Field Office where the charge of discrimination was filed (see Appendix A).

Categories of Individuals Covered by the System:

Persons, other than federal employees and applicants, who file charges alleging that an employer, employment agency, labor organization or joint labor-management apprenticeship committee has violated Title VII of the Civil Rights Act of 1964 or the Americans With Disabilities Act of 1990, or both.

Categories of Records in the System:

This system contains records compiled during the investigation of race, color, religion, sex, and national origin discrimination cases and cases of discrimination against individuals with disabilities. These records include:

a. Documents submitted by charging party, such as charge of discrimination, personal interview statement, medical records and correspondence.

b. Documents submitted by employer such as statement of position, correspondence, statements of witnesses, documentary evidence such as personnel files, records of earnings, EEO data, employee benefit plans, seniority list, job titles and descriptions, applicant data, organizational charts, collective bargaining agreements, petition to revoke or modify subpoena.

c. Records gathered and generated by EEOC in the course of its investigation such as letters to state or local fair employment practice agencies, correspondence with state fair employment practice agencies, witness statements, investigator's notes, investigative plan, investigator's analyses of the evidence and charge, report of initial and exit interviews, copy of deferral to state, subpoenas, decisions and letters of determination, analysis of deferral agency action, conciliation agreements, correspondence and any additional evidence gathered during the course of the investigation.

Authority for Maintenance of the System:

5 U.S.C. 301; 42 U.S.C. 2000e-5, -8 and -9; 42 U.S.C. 12117; 44 U.S.C. 3101.

Purpose(s):

This system is maintained for the purpose of enforcing the prohibitions against employment discrimination contained in Title VII of the Civil Rights Act of 1964 and the Americans with Disabilities Act of 1990.

Routine Uses of Records Maintained in the System, Including Categories of Users and the Purposes of Such Uses:

These records and information in these records may be used:

a. To disclose pertinent information to a federal, state, or local agency or third party as may be appropriate or necessary to perform the Commission's functions under Title VII of the Civil Rights Act of 1964 and the Americans With Disabilities Act of 1990.

b. To disclose information contained in these records to state and local agencies administering state or local fair employment practices laws.

c. To disclose non-confidential or non-privileged information contained in these records to the following persons after a notice of right to sue has been issued:

1. Aggrieved persons and their attorneys in case files involving Commissioner Charges provided that such persons have been notified of their status as aggrieved persons;

2. Persons or organizations filing on behalf of an aggrieved person provided that the aggrieved person has given written authorization to the person who filed on his or her behalf to act as the aggrieved person's agent for this purpose, and their attorneys;

3. Employers and their attorneys, provided that the charging party or aggrieved person has filed suit under Title VII or the Americans With Disabilities Act, or both.

d. To provide information to a congressional office from the record of an individual in response to an inquiry from the congressional office made at the request of a party to the charge.

e. To disclose pertinent information to the appropriate federal, state or local agencies responsible for investigating, prosecuting, enforcing or implementing a statute, rule, regulation or order, where EEOC becomes aware of an indication of a violation or potential violation of civil or criminal law or regulation.

f. To disclose information to another federal agency, to a court, or to a party in litigation before a court or in an administrative proceeding being conducted by a federal agency when the government is a party to the judicial or administrative proceeding.

g. To disclose information to officials of disciplinary boards or committees under the control of a state or local government when they are investigating complaints against attorneys in connection with their representation of a party before EEOC.

h. To disclose to a Federal agency in the executive, legislative, or judicial branch of government, in response to its request information in connection with the hiring of an employee, the issuance of a security clearance, the conducting of a security or suitability investigation of an individual, the classifying of jobs, or the lawful statutory, administrative, or investigative purpose of the agency to the extent that the information is relevant and necessary to the requesting agency's decision.

Policies and Practices for Storing, Retrieving, Accessing, Retaining, and Disposing of Records in the System:

Storage:

These records are maintained in file folders and in computer databases.

Retrievability:

These records are retrievable by charging party name, employer name and charge number.

Safeguards:

Paper records are maintained in a secured area to which only authorized personnel have access. Access to and use of these records is limited to those persons whose official duties require such access. The premises are locked when authorized personnel are not on duty. Access to computerized records is limited, through use of access codes and entry logs, to those whose official duties require access.

Retention and Disposal:

Cases that are dismissed or closed for other than no cause are destroyed six months following the date of dismissal or closure. No cause files that are of value in the development of future class action or pattern and practice cases are retired to the Federal Records Center one year after the date of the last action and destroyed after three additional years. All other no cause files are destroyed one year after the date of the last action. Negotiated settlement files are destroyed one year after the calendar year in which the settlement agreement is signed or after all obligations under the agreement are satisfied, whichever occurs later. Where monetary benefits are realized in concurrent Age, Equal Pay, Title VII and Americans With Disabilities Act cases, the file is destroyed three years after the date of the last action. Other files are retired to the Federal Records Center one year after the date of the last action, including action in the federal courts or the last compliance review (the final report submitted by the respondent after conciliation to indicate compliance) and destroyed after three additional years, except landmark cases. Landmark cases are transferred to the nearest Federal Records Center two years after final court action and offered to the National Archives ten years after final court action.

System Manager(s) and Address:

Director of the field office where the charge was filed.

Systems Exempted from Certain Provisions of the Act:

This system is exempt under 5 U.S.C. 552a(k)(2) from subsections (c)(3), (d), (e)(1), (e)(4)(G), (e)(4)(H), (e)(4)(I), and (f) of the Act.

EEOC-4

System Name:

Biographical Files.

System Location:

Office of Communications and Legislative Affairs, Equal Employment Opportunity Commission, 1801 L Street, NW., Washington, DC 20507.

Categories of Individuals Covered by the System:

Current and former Commissioners, General Counsels and Commission officials.

Categories of Records in the System:

Includes for each the name, date and place of birth, education, employment history, and other biographical information.

Authority for Maintenance of the System:

44 U.S.C. 3101, 42 U.S.C. 2000e-4.

Purpose(s):

This system is maintained for the purpose of providing information about EEOC officials to members of the Congress and the public.

Routine Uses of Records Maintained in the System, Including Categories of Users and the Purposes of Such Uses:

These records and information in these records may be used

a. To answer public and congressional inquiries regarding EEOC Commissioners, General Counsels and Commission officials.

Policies and Practices for Storing, Retrieving, Accessing, Retaining and Disposing of Records in the System:

Storage:

Stored in locking metal file cabinets available to office employees and on computer databases.

Retreivability:

Indexed by last name of the Commissioner, General Counsel or Commission official.

Safeguards:

Files are kept in the Office of Communications and Legislative Affairs, which is locked evenings, weekends and holidays. Access to computerized records is limited, through use of access codes and entry logs, to those whose official duties require access.

Retention and Disposal:

Maintained permanently.

System Manager(s) and Address:

Director, Office of Communications and Legislative Affairs, Equal Employment Opportunity Commission, 1801 L Street, NW., Washington, DC 20507.

Notification Procedures:

Inquiries concerning this system of records should be addressed to the system manager. All inquiries should furnish the full name of the individual and the mailing address to which the reply should be mailed.

Record Access Procedures:

Same as above.

Contesting Records Procedures:

Same as above.

Record Source Categories:

The individual to whom the record pertains.

EEOC-5

System Name:

Correspondence and Communications.

System Location:

All locations listed in appendix A and all headquarters offices, 1801 L Street, NW., Washington, DC 20507.

Categories of Individuals Covered by the System:

Charging parties, members of the general public, members of Congress and current and former federal employees who seek information or assistance from EEOC.

Categories of Records in the System:

a. Inquiries from Members of Congress, the White House and members of the general public, including current and former federal employees.

b. EEOC responses to the above inquiries.

c. Computer tracking system indicating the dates inquiries are received, to whom and when they are assigned for response and the dates they are answered.

Authority for Maintenance of the System:

44 U.S.C. 3101; 42 U.S.C. 2000e-4.

Purpose(s):

This system is maintained for the purpose of responding to inquiries from members of Congress and the public seeking information or assistance.

Routine Uses of Records Maintained in the System Including Categories of Users and the Purposes of Such Uses:

These records and information in these records may be used:

a. To provide information to a congressional office from the record of an individual in response to an inquiry from the congressional office at the request of the individual.

b. To disclose information to another federal agency, to a court, or to a party in litigation before a court or in an administrative proceeding being conducted by a federal agency when the government is a party to the judicial or administrative proceeding.

Policies and Practices for Storing, Retrieving, Accessing, Retaining, and Disposing of Records in the System:

Storage:

These records are maintained in file cabinets and on computer databases.

Retrievability:

Computer entries are retrievable by name of author of a letter, by subject, by key word, by reference number, by name of person to whom assigned, and by dates assigned, due and answered.

Safeguards:

These records are kept in a secured area to which only authorized personnel have access. Access to and use of these records is limited to those persons whose official duties require such access. The premises are locked when authorized personnel are not on duty. Access to computerized records is limited, through use of access codes and entry logs, to those whose official duties require access.

Retention and Disposal:

Records are maintained for three years from the date of the last communication and then destroyed. Tracking system information is maintained in the computer for four years.

System Manager(s) and Address:

Director of each Commission field and Headquarters office. (See Appendix A.)

Notification Procedure:

Inquiries concerning this system of records should be addressed to the system manager. All inquiries should furnish the full name of the individual and the mailing address to which the reply should be mailed.

Record Access Procedures:

Same as above.

Contesting Records Procedures:

Same as above.

Record Source Categories:

Members of Congress, their staffs, the White House, charging parties, members of the general public, current and former federal employees.

EEOC-6

System Name:

Employee Assistance Program Records.

System Location:

Employee Assistance Program contractor.

Categories of Individuals Covered by the System:

Current EEOC employees who have been referred to or contacted the Employee Assistance Program because of personal problems, emotional problems, or alcohol or drug abuse.

Categories of Records in the System:

May contain information relating to individuals counseled by the Employee Assistance Program including supervisor's referral, (if the employee was referred by the supervisor), documentation of visits to employee counselors (federal, state, local government, or private), and notes or records made by the counselor of discussions held with the employee or with the physician, therapist or health care professional of the employee. In addition, records in this system may include documentation of treatment by a therapist at a federal, state, local government, or private institution, summary information produced at case closure, and other documents deemed pertinent to the provision of program services to the employee.

Authority for Maintenance of the System:

42 U.S.C. 290dd-1 and 3; 290ee-1 and 3; 5 U.S.C. 7901; 44 U.S.C. 3101.

Purpose(s):

This system is maintained for the purpose of providing counseling services to EEOC employees who have been referred to or contacted the Employee Assistance Program.

Routine Uses of Records Maintained in the System, Including Categories of Users and the Purposes of Such Uses:

These records and information in these records may be used:

a. To disclose information to authorized personnel of the contractor that administers the EEOC Employee Assistance Program.

b. To disclose information to medical personnel to meet a bona fide medical emergency.

c. To disclose information to qualified personnel for the purpose of conducting scientific research, management audits, financial audits, or program evaluation, but such personnel may not identify, directly or indirectly, any individual patient in any report or otherwise disclose patient identities in any manner (when such records are provided to qualified researchers employed by the Commission, all patient identifying information shall be removed).

Note: Disclosure of these records beyond officials of the Commission having a bona fide need for them or to the person to whom they pertain is rarely made because disclosures of information pertaining to an individual with a history of alcohol or drug abuse must be limited to comply with the restrictions of the regulations regarding the Confidentiality of Alcohol and Drug Abuse Patient Records, 42 CFR part 2, as authorized by 42 U.S.C. 290dd-3 and 290ee-3. Records pertaining to the physical and mental fitness of employees are, as a matter of Commission policy, afforded the same degree of confidentiality and are generally not disclosed.

Policies and Practices for Storing, Retrieving, Accessing, Retaining, and Disposing of Records in the System:

Storage:

Maintained in file folders and on computer databases.

Retrievability:

Indexed by name of employee.

Safeguards:

Files are maintained in locked cabinets accessible only to Employee Assistance Program personnel. Access to computerized records is limited, through use of access codes and entry logs, to those whose official duties require access.

Retention and Disposal:

Records are retained until three years after the employee has ceased contact with the counselor or until the employee's separation or transfer, whichever comes first.

Systems Manager(s) and Address:

Administrator, Employee Assistance Program, Office of Human Resources, Equal Employment Opportunity Commission, 1801 L Street, NW., Washington, DC 20507; Field Office Directors (see Appendix A).

Notification Procedures:

Any person wanting to know whether this system of records contains information about him or her should contact the appropriate system manager. Such person should provide his or her full name, date of birth, and social security number.

Record Access Procedures:

Same as above.

Contesting Record Procedures:

Same as above.

Record Source Categories:

The sources of these records are:

a. The employee or members of the employee's family;

b. Persons to whom the employee has been referred for assistance;

c. Commission officers and employees;

d. Program counselors.

EEOC-7

System Name:

Employee Pay and Leave Records.

System Location:

All locations listed in Appendix A.

Categories of Individuals Covered by the System:

Current and former employees of EEOC.

Categories of Records in the System:

Time and attendance cards and forms; leave records (includes employee name, branch or office, pay period ending, leave and overtime used during the pay period); requests for leave (earned or advance) or leave of absence; requests for an authorization of overtime; annual attendance record (indicates name, social security number, service computation date, hours and dates worked and taken as leave, pay plan, salary and occupation code, grade, leave earned and used); thrift savings plan participation, deductions for medicare, FICA, taxes, life and health insurance, union contributions, charitable contributions, savings allotments and bond issuance and bond balance.

Authority for Maintenance of the System:

5 U.S.C. 301; 44 U.S.C. 3101.

Purpose(s):

The records in this system are maintained in accordance with the requirements set forth by statutes, regulations and guidance from the Office of Personnel Management, the General Services Administration and the Thrift Savings Board. They are maintained for the purpose of providing salaries and other benefits to EEOC employees.

Routine Uses of Records Maintained in the System, Including Categories of Users and the Purposes of Such Uses:

These records and information in these records may be used:

a. To provide information to a congressional office from the record of an individual in response to an inquiry from the congressional office made at the request of the individual.

b. To provide a copy of an employee's Department of the Treasury Form W-2, Wage and Tax Statement, to the state, city or other local jurisdiction which is authorized to tax the employee's compensation. The record will be provided in accordance with a withholding agreement between the state, city or other jurisdiction and the Department of Treasury pursuant to 5 U.S.C. 5516, 5517 or 5520, or in response to a written request from an appropriate official of the taxing jurisdiction. The request must include a copy of the applicable statute or ordinance authorizing the taxation of compensation and should indicate whether the authority of the jurisdiction to tax the employee is based on place of residence, place of employment, or both.

c. To disclose copies of executed city tax withholding certificates to a city pursuant to a withholding agreement between the city and the Department of the Treasury (5 U.S.C. 5520) in response to a written request from an appropriate city official.

d. To disclose the social security number only, in the absence of a withholding agreement, to a taxing jurisdiction that has furnished this agency with evidence of its independent authority to compel disclosure of the social security number, in accordance with section 7 of the Privacy Act, 5 U.S.C. 552a note.

e. To disclose pertinent information to the appropriate federal, state, or local agency responsible for investigating, prosecuting, enforcing, or implementing a statute, rule, regulation, or order, where EEOC becomes aware of an indication of a violation or potential violation of civil or criminal law or regulation.

f. To disclose to an agency in the executive, legislative or judicial branch or the District of Columbia's Government information in connection with the hiring of an employee, the issuance of a security clearance, the conducting of a security or suitability investigation of an individual, the classifying of jobs, the letting of a contract, the issuance of a license, grant, or other benefits by the requesting agency, or the lawful statutory, administrative, or investigative purpose of the agency to the extent that the information is relevant and necessary to the requesting agency's decision.

g. To disclose to an authorized appeal grievance examiner, formal complaints examiner, administrative judge, equal employment opportunity investigator, arbitrator or other duly authorized official engaged in investigation or settlement of a grievance, complaint or appeal filed by an employee.

h. To disclose to the Office of Personnel Management in accordance with the agency's responsibility for evaluation and oversight of Federal personnel management.

i. To disclose to officers and employees of the Department of the Interior in connection with administrative services provided to this agency under agreement with DOI.

j. To disclose information to another federal agency, to a court, or to a party in litigation before a court or in an administrative proceeding being conducted by a federal agency when the government is a party to the judicial or administrative proceeding.

k. To disclose information to the Office of Child Support Enforcement, Administration for Children and Families, Department of Health and Human Services Federal Parent Locator system (FPLS) and Federal Tax Offset system for use in locating individuals and identifying their income sources to establish paternity, establish and modify orders of support and for enforcement action.

l. To disclose information to the Office of Child Support Enforcement for release to the Social Security Administration for verifying social security numbers in connection with the operation of the FPLS by the Office of Child Support Enforcement.

m. To disclose information to the Office of Child Support Enforcement for release to the Department of Treasury for purposes of administering the Earned Income Tax Credit Program (Section 32, Internal Revenue Code of 1986) and verifying a claim with respect to employment in a tax return.

Disclosure to Consumer Reporting Agencies:

Disclosures may be made from this system to consumer reporting agencies as defined in the Fair Credit Reporting Act (15 U.S.C. 1681a(f)) or the Federal Claims Collection Act of 1966 (31 U.S.C. 3701(a)(3)).

Policies and Practices for Storing, Retrieving, Accessing, Retaining, and Disposing of Records in the System:

Storage:

Stored electronically and in file folders.

Retrievability:

Indexed by an assigned employee code.

Safeguards:

Access to these records is limited to employees whose official duties require such access.

Retention and Disposal:

The records are destroyed after three years.

System Manager(s) and Address:

Director of each Commission Office (See Appendix A).

Notification Procedure:

Inquiries concerning this system of records should be addressed to the system manager. It is necessary to furnish the following information: (1) Name; (2) social security number; (3) mailing address to which the response is to be sent.

Record Access Procedures:

Same as above.

Contesting Record Procedures:

Same as above.

Record Source Categories:

Official personnel folder, data submitted by employees and data submitted by the offices where the individuals are or were employed.

EEOC-8

System Name:

Employee Travel and Reimbursement Records.

System Location:

All locations listed in Appendix A.

Categories of Individuals Covered by the System:

Current and former employees.

Categories of Records in the System:

Includes travel orders, travel vouchers, records of travel advances, amounts owed the agency by employees for travel and other purposes, amounts payable to the employee for travel and other purposes, payments made to the employees for travel and other reimbursable transactions and a record of the difference between the cost of official travel as estimated in the travel order and the amount actually expended by the employee.

Authority for Maintenance of the System:

31 U.S.C. 3512, 44 U.S.C. 3101.

Purpose(s):

These records are maintained in accordance with the General Service Administration's regulations for the purpose of allowing EEOC employees to travel for official business and reimbursing travel expenses.

Routine Uses of Records Maintained in the System, Including Categories of Users and the Purposes of Such Uses:

These records and information in these records may be used:

a. To disclose pertinent information to the appropriate Federal, State, or local agency responsible for investigating, prosecuting, enforcing, or implementing a statute, rule, regulation, or order, where EEOC becomes aware of an indication of a violation or potential violation of civil or criminal law or regulation.

b. To disclose to an agency in the executive, legislative or judicial branch or the District of Columbia's Government, information in connection with the hiring of an employee, the issuance of a security clearance, the conducting of a security or suitability investigation of an individual, the classifying of jobs, the letting of a contract, the issuance of a license, grant, or other benefits by the requesting agency, or the lawful statutory, administrative, or investigative purpose of the agency to the extent that the information is relevant and necessary to the requesting agency's decision.

c. To disclose to an authorized appeal grievance examiner, formal complaints examiner, administrative judge, equal employment opportunity investigator, arbitrator or other duly authorized official engaged in investigation or settlement of a grievance, complaint or appeal filed by an employee.

d. To disclose to the Office of Personnel Management in accordance with the agency's responsibility for evaluation and oversight of Federal personnel management.

e. To disclose to officers and employees of the Department of the Interior in connection with administrative services provided to this agency under agreement with DOI.

f. To disclose information to another federal agency, to a court, or to a party in litigation before a court or in an administrative proceeding being conducted by a federal agency when the government is a party to the judicial or administrative proceeding.

g. To provide information to a congressional office from the record of an individual in response to an inquiry from the congressional office made at the request of the individual.

Disclosure to Consumer Reporting Agencies:

Disclosures may be made from this system to consumer reporting agencies as defined in the Fair Credit Reporting Act (15 U.S.C. 1681a(f)) or the Federal Claims Collection Act of 1966 (31 U.S.C. 3701(a)(3)).

Policies and Practices for Storing, Retrieving, Accessing, Retaining, and Disposing of Records in the System:

Storage:

Stored on prepared forms and on computer databases.

Retrievability:

Indexed alphabetically by name, social security number, and/or chronologically by event and name.

Safeguards:

Access to and use of these records are limited to those persons whose official duties require such access. Personnel screening is employed to prevent unauthorized disclosure. Files are stored in standard cabinets, safes and secured rooms. Access to computerized records is limited, through use of access codes and entry logs, to those whose official duties require access.

Retention and Disposal:

These records are destroyed in accordance with GSA General Records Schedule 2.

System Manager(s) and Address:

Director, Financial Management Division, Office of Chief Financial Officer and Administrative Services, EEOC, 1801 L Street, NW., Washington, DC 20507.

Notification Procedure:

Employees of the Commission wishing to know whether information about them is maintained in this system of records should address inquiries to the Director of the Office where employed (see Appendix A). The individual should provide his or her full name, date of birth, social security number and mailing address.

Record Access Procedures:

Same as above.

Contesting Record Procedures:

Same as above.

Record Source Categories:

Bills, receipts and claims presented by employees and original data generated by the Commission.

EEOC-9

System Name:

Claims Collection Records.

System Location:

These records are located in the Finance Management Division, Office of Chief Financial Officer and Administrative Services, Equal Employment Opportunity Commission, 1801 L Street, NW., Washington, DC 20507.

Categories of Individuals Covered by the System:

Any individual who is indebted to the United States as a result of his or her interaction or financial activities with the Commission or another federal agency including, but not limited to, any current or former Commission employee.

Categories of Records in the System:

This system contains:

a. Case Files. These files contain information and evidence on the identity and location of the individual who is subject to a claim, the origin and amount of the indebtedness, decisions and determinations regarding a claim, actions taken to collect a claim, and the results of those actions. Depending on the status of a claim, a case file may include such records as documents evidencing indebtedness, written demands for payment, required notices, financial statements, medical disability statements, agency investigative reports, credit reports, written agreements for payment, intra-agency and inter-agency memoranda of consultation and opinion on the collection action, documentation resulting from a hearing, requests for waiver, requests for reconsideration, written determinations and decisions, certifications of indebtedness by this or another agency, counterclaims, judgments and documents evidencing payment or compromise of the debt.

b. Internal Revenue Service (IRS) Mailing Address Index. Consists of cards containing the name or other identifying information on the individual for whom mailing address information has been requested and received from the IRS, the date on which this information was received from the IRS, and the purpose to which the information has been put.

c. Index on Disclosures to Consumer Reporting Agencies. Records containing the name and other identifying information on the individual whose delinquent debt has been reported to consumer reporting agencies, i.e., credit bureaus, and the kind and type of information reported.

Authority for Maintenance of the System:

5 U.S.C. 301, 5514, 5522, 5584, 5705, 5724(f); 15 U.S.C. 1692; 26 U.S.C. 6331; 31 U.S.C. 3701, 3702, 3711, 3716, 3717, 3718, 3719; 44 U.S.C. 3101; 4 CFR parts 91-93, 101-105.

Purpose(s):

This system is maintained for the purpose of collecting debts owed the United States by individuals as a result of their interaction with the Commission or another federal agency. The debts are collected in accordance with the Commission's regulatory debt collection procedures, which include salary offset, administrative offset, Federal income tax refund offset and wage garnishment.

Routine Uses of Records Maintained in the System, Including Categories of Users and the Purposes of Such Uses:

These records and information in these records may be used:

a. To disclose information to appropriate officials and employees of the Department of Justice for the purposes of litigation and forced collection on administratively uncollected debts.

b. To disclose information to appropriate officials of the Department of the Treasury and the Office of Management and Budget to provide reports on debt collection activities.

c. To disclose information to another federal agency for the purpose of collecting a debt owed to the Commission by an individual through EEOC's debt collection procedures undertaken by the other agency upon proper certification or evidence of the debt owed from the Commission.

d. To disclose information to another federal agency for the purpose of collecting a debt owed to that agency by an individual through EEOC's debt collection procedures undertaken by the Commission upon proper certification or evidence of the debt owed from the other agency.

e. To disclose a debtor's name and social security number to the Secretary of the Treasury or his or her designee for the purpose of obtaining the debtor's mailing address from the IRS.

f. To disclose mailing addresses obtained from the IRS to consumer reporting agencies only for the limited purpose of obtaining a commercial credit report on the particular taxpayer.

g. To provide information to a congressional office from the record of an individual in response to an inquiry from the congressional office made at the request of the individual.

h. To disclose pertinent information to the appropriate federal, state, or local agency responsible for investigating, prosecuting, enforcing, or implementing a statute, rule, regulation, or order, where EEOC becomes aware of an indication of a violation or potential violation of civil or criminal law or regulation.

i. To disclose to an agency in the executive, legislative or judicial branch or the District of Columbia's government in response to its request, or at the initiation of the agency maintaining the records, information in connection with the hiring of an employee, the issuance of a security clearance, the conducting of a security or suitability investigation of an individual, the classifying of jobs, the letting of a contract, the issuance of a license, grant, or other benefits by the requesting agency, or the lawful statutory, administrative, or investigative purpose of the agency to the extent that the information is relevant and necessary to the requesting agency's decision.

j. To disclose to officers and employees of the Department of the Interior in connection with administrative services provided to this agency under agreement with DOI.

k. To disclose information to the Defense Manpower Data Center, Department of Defense, to secure computer matching services for the purpose of identifying and locating individuals who are receiving federal salaries or benefit payments and are delinquent in their repayment of debts owed to the U.S. government under programs administered by the Equal Employment Opportunity Commission in order to collect the debts under the provisions of the Debt Collection Act of 1982 (Pub L. 97-365) by voluntary repayment, or administrative or salary offset procedures.

l. To disclose information to the U.S. Postal Service to secure computer matching services for the purpose of identifying and locating individuals who are receiving federal salaries or benefit payments and are delinquent in their repayment of debts owed to the U.S. government under programs administered by the Equal Employment Opportunity Commission in order to collect the debts under the voluntary provisions of the Debt Collection Act of 1982 (Pub. L. 97-365) by voluntary repayment, or by administrative or salary offset procedures.

Disclosure to Consumer Reporting Agencies:

Disclosures may be made from this system to consumer reporting agencies as defined in the Fair Credit Reporting Act (15 U.S.C. 1681a(f) or the Federal Claims Collection Act of 1966 (31 U.S.C. 3701(a)(3)).

Policies and Practices for Storing, Retrieving, Accessing, Retaining, and Disposing of Records in the System:

Storage:

These records are maintained in file folders and on computer databases.

Retrievability:

These records are indexed by the name of the individual and social security number. The records may be retrieved by either of these indexes.

Safeguards:

Records are maintained and stored in file cabinets in a secured area to which only authorized personnel have access. Access to and use of these records is limited to those persons whose official duties require such access.

Retention and Disposal:

Individual case files are usually retained for two years after the claim is collected. Case records on individuals whose delinquent debts are reported to consumer reporting agencies are retained indefinitely. Other case files may be maintained for a period up to ten years. IRS Mailing Address Index on any individual is not maintained beyond six years.

System Manager(s) and Address:

Director, Office of Chief Financial Officer and Administrative Services, Equal Employment Opportunity Commission, 1801 L Street, NW., Washington, DC 20507.

Notification Procedures:

Under the Debt Collection Act, individuals are notified if claims collection records are maintained on them in accordance with statutory procedures for debt collection, and disclosing information to a consumer reporting agency. Individuals may also contact the System Manager in order to obtain notification of claims collection records on themselves.

Individuals must provide their full names under which records may be maintained, their social security number, and a mailing address to which a reply should be sent.

Record Access Procedures:

Same as above.

Contesting Record Procedures:

Same as above.

Record Source Categories:

Information in this system of records is provided by or from:

a. The individual on whom the record is maintained;

b. Other Federal agencies;

c. Personnel, payroll, travel records, contract records or other records;

d. Administrative hearings;

e. Court records;

f. Consumer reporting agencies.

EEOC-10

System Name:

Grievance Records.

System Location:

These records are located in Office of Human Resources, Equal Employment Opportunity Commission, 1801 L Street, NW., Washington, DC 20507 and in other headquarter offices and field offices where the grievances were filed (see Appendix A).

Categories of Individuals Covered by the System:

Current or former EEOC employees who have submitted grievances to the EEOC in accordance with part 771 of the regulations of the Office of Personnel Management (OPM)(5 CFR part 771) and EEOC Order No. 570.003, or a negotiated procedure.

Categories of Records in the System:

The system contains all documents related to the grievance, including statements of witnesses, reports of interviews and hearings, examiners' findings and recommendations, a copy of the original and final decision, and related correspondence and exhibits. This system includes files and records of internal grievance and arbitration systems that EEOC has or may establish through negotiations with recognized labor organizations.

Authority for Maintenance of the System:

5 U.S.C. 301; 44 U.S.C. 3101; 5 U.S.C. 7121.

Purpose(s):

These records result from EEOC employees' grievances, filed under the Commission's administrative grievance procedures or the formal grievance procedures contained in section 7121 of the Civil Service Reform Act.

Routine Uses of Records Maintained in the System, Including Categories of Users and the Purposes of Such Uses:

These records and information in these records may be used:

a. To disclose information to any source from which additional information is requested in the course of processing a grievance, to the extent necessary to identify the individual, inform the source of the purpose(s) of the request and identify the type of information requested.

b. To disclose pertinent information to the appropriate federal, state, or local agency responsible for investigating, prosecuting, enforcing, or implementing a statute, rule, regulation, or order, where EEOC becomes aware of an indication of a violation or potential violation of civil or criminal law or regulation.

c. To disclose to an agency in the executive, legislative or judicial branch or the District of Columbia's government, information in connection with the hiring of an employee, the issuance of a security clearance, the conducting of a security or suitability investigation of an individual, the classifying of jobs, the letting of a contract, the issuance of a license, grant, or other benefits by the requesting agency, or the lawful statutory, administrative, or investigative purpose of the agency to the extent that the information is relevant and necessary to the requesting agency's decision.

d. To disclose information to another federal agency, to a court, or to a party in litigation before a court or in an administrative proceeding being conducted by a federal agency when the government is a party to the judicial or administrative proceeding.

e. To provide information to a congressional office from the record of an individual in response to an inquiry from that congressional office made at the request of that individual.

f. To disclose to an authorized appeal grievance examiner, formal complaints examiner, administrative judge, equal employment opportunity investigator, arbitrator or other duly authorized official engaged in investigation or settlement of a grievance, complaint or appeal filed by an employee.

g. To disclose in response to a request for discovery or for appearance of a witness, information that is relevant to the subject matter involved in a pending judicial or administrative proceeding.

h. To provide information to officials of labor organizations recognized under the Civil Service Reform Act when relevant and necessary to their duties of exclusive representation concerning personnel policies, practices and matters effecting work conditions.

Policies and Practices for Storing, Retrieving, Accessing, Retaining, and Disposing of Records in the System:

Storage:

These records are maintained in file folders and on computer databases.

Retrievability:

These records are retrieved by the names of the individuals on whom they are maintained.

Safeguards:

These records are maintained in lockable metal filing cabinets to which only authorized personnel have access. Access to computerized records is limited, through use of access codes and entry logs, to those whose official duties require access.

Retention and Disposal:

These records are shredded or burned 3 years after closing the case.

System Manager(s) and Address:

If the grievance is pending at or was never raised beyond the office level, the system manager is the head of the office. (See Appendix A.) In all other situations, the system manager is the Director, Office of Human Resources, EEOC, 1801 L Street, NW., Washington, DC 20507.

Notification Procedures:

It is required that individuals submitting grievances be provided a copy of the record under the grievance process. They may, however, contact the agency personnel or designated office where the action was processed regarding the existence of such records on them. They must furnish the following information for their records to be located and identified: (a) Name; (b) approximate date of closing of the case and kind of action taken; (c) organizational component involved.

Records Access Procedures:

Same as above.

Contesting Record Procedures:

Same as above.

Record Source Categories:

Information in this system of records is provided:

a. By the individual on whom the record is maintained;

b. By testimony of witnesses;

c. By agency officials;

d. From related correspondence from organizations or persons.

EEOC-11

System Name:

Records of Adverse Actions Against Nonpreference Eligibles in the Excepted Service.

System Location:

These records are located in Office of Human Resources, Equal Employment Opportunity Commission, 1801 L Street, NW., Washington, DC 20507 or in the headquarters and field offices in which the actions have been taken.

Categories of Individuals Covered by the System:

Current or former nonpreference eligible, excepted service Equal Employment Opportunity Commission (EEOC) employees against whom an adverse action has been proposed or taken and who have not completed two years of current and continuous service in the same or similar positions. (This system covers only those adverse action files not covered by OPM/GOVT-3.)

Categories of Records in the System:

This system contains records and documents on the processing of adverse actions for employees who are nonpreference eligibles in the excepted service and who do not have two years of continuous service in their positions. The records include copies of the notice of proposed action, materials relied on by the agency to support the reasons in the notice, replies by the employee, statements of witnesses, reports, and agency decisions.

Authority for Maintenance of the System:

44 U.S.C. 3101.

Purpose(s):

These records result from the proposal, processing, and documentation of adverse actions taken by the Commission against nonpreference eligible, excepted service EEOC employees.

Routine Uses of Records Maintained in the System, Including Categories of Users and the Purposes of Such Uses:

These records and information in records may be used:

a. To provide information to officials of labor organizations recognized under 5 U.S.C. Chapter 71 when relevant and necessary to their duties of exclusive representation concerning personnel policies, practices, and matters affecting work conditions.

b. To disclose pertinent information to the appropriate federal, state, or local agency responsible for investigating, prosecuting, enforcing, or implementing a statute, rule, regulation, or order, when the EEOC becomes aware of an indication of a violation or potential violation of civil or criminal law or regulation.

c. To disclose information to any source from which additional information is requested for processing any of the covered actions or in regard to any appeal or administrative review procedure, to the extent necessary to identify the individual, inform the source of the purpose(s) of the request, and identify the type of information requested.

d. To disclose information to a federal agency, in response to its request, in connection with the hiring or retention of an employee, the issuance of a security clearance, the conducting of a security or suitability investigation of an individual, or the classifying of jobs, to the extent that the information is relevant and necessary to the requesting agency's decision on the matter.

e. To provide information to a congressional office from the record of an individual in response to an inquiry from that congressional office made at the request of that individual.

f. To disclose information to another federal agency, to a court, or to a party in litigation before a court or in an administrative proceeding being conducted by a federal agency when the government is a party to the judicial or administrative proceeding.

g. To disclose, in response to a request for discovery or for appearance of a witness, information that is relevant to the subject matter involved in a pending judicial or administrative proceeding.

h. To disclose to an authorized appeal grievance examiner, formal complaints examiner, administrative judge, equal employment opportunity investigator, arbitrator or other duly authorized official engaged in investigation or settlement of a grievance, complaint or appeal filed by an employee.

Policies and Practices for Storing, Retrieving, Accessing, Retaining, and Disposing of Records in the System:

Storage:

These records are maintained in file folders and on computer databases.

Retrievability:

These records are retrieved by the names or social security number of the individuals on whom they are maintained.

Safeguards:

These records are maintained in locked metal filing cabinets to which only authorized personnel have access. Access to computerized records is limited, through use of access codes and entry logs, to those whose official duties require access.

Retention and Disposal:

Records documenting an adverse action are disposed of 4 years after the closing of the case.

System Manager(s) and Address:

Director, Office of Human Resources, and Directors of Field Offices (see Appendix A).

Notification Procedures:

Individuals receiving notice of a proposed action are provided access to all documents supporting the notice. They may also contact the personnel office where the action was processed regarding the existence of such records on them. They must furnish the following information for their records to be located and identified:

a. Name

b. Approximate date of closing of case and kind of action taken

c. Organizational component involved.

Record Access Procedures:

Same as above.

Contesting Record Procedures:

Same as above.

Record Source Categories:

Information in this system of records is provided:

a. By the individual on whom the record is maintained

b. By witnesses

c. By agency officials.

EEOC-12

System Name:

Telephone Call Detail Records.

System Location:

Telecommunications and Networking Division, Office of Information Resources Management, EEOC, 1801 L Street, NW., Washington DC 20507, and each field office listed in Appendix A.

Categories of Individuals Covered by the System:

Individuals (generally EEOC employees) who make long distance telephone calls from EEOC telephones, individuals who received long distance telephone calls placed from or charged to EEOC telephones, and individuals who are assigned U.S. government phone cards.

Categories of Records in the System:

Records relating to the use of EEOC telephones and government phone cards to place long distance calls; records indicating the assignment of telephone numbers to employees; records relating to the location of telephones.

Authority for Maintenance of the System:

44 U.S.C. 3101.

Purpose(s):

These records are maintained for the purpose of keeping an account of long distance telephone calls made from EEOC telephones and charged to U.S. government phone cards held by EEOC employees and ensuring that phone calls and card charges are made for official business only.

Routine Uses of Records Maintained in the System, Including Categories of Users and the Purposes of Such Uses:

These records and information from these records may be used:

a. To provide information to a congressional office from the record of an individual in response to an inquiry from that congressional office made at the request of that individual.

b. To disclose to representatives of the General Services Administration or the National Archives and Records Administration who are conducting records management inspections under the authority of 44 U.S.C. 2904 and 2906.

c. To disclose information to another federal agency, to a court, or to a party in litigation before a court or in an administrative proceeding being conducted by a federal agency when the government is a party to the judicial or administrative proceeding.

d. To disclose pertinent information to the appropriate Federal, State, or local agency responsible for investigating, prosecuting, enforcing or implementing a statute, rule, regulation or order, where the disclosing agency becomes aware of an indication of a violation or potential violation of civil or criminal law or regulation.

e. To disclose to an agency in the executive, legislative or judicial branch or the District of Columbia's government in response to its request, or at the initiation of the EEOC, information in connection with the hiring of an employee, the issuance of a security clearance, the conducting of a security or suitability investigation of an individual, the classifying of jobs, the letting of a contract, the issuance of a license, grant or other benefits by the requesting agency, or the lawful statutory, administrative, or investigative purpose of the agency to the extent that the information is relevant and necessary to the requesting agency's decision.

f. To disclose to a telecommunications company providing telecommunications support to permit servicing the account.

Policies and Practices for Storing, Retrieving, Accessing, Retaining and Disposing of Records in the System:

Storage:

These records are maintained in file folders and on computer databases.

Retrievability:

Records are retrieved by employee name or identification number, by name of recipient of telephone call, by telephone number.

Safeguards:

Records are maintained and stored in file cabinets in a secured area to which only authorized personnel have access. Access to computerized records is limited, through use of access codes and entry logs, to those whose official duties require access.

Retention and Disposal:

Records are disposed of as provided in the National Archives and Records Administration's General Records Schedule 12.

System Manager(s) and Address:

Director, Telecommunications and Networking Division, Office of Information Resources Management, EEOC, 1801 L Street, NW., Washington, DC 20507 and the Directors of the field offices listed in Appendix A.

Notification Procedures:

Inquiries concerning this system of records should be addressed to the system manager. It is necessary to provide the following information: (1) Name; (2) social security number; (3) telephone number (office number if Commission employee); (4) mailing address to which response is to be sent.

Record Access Procedures:

Same as above.

Contesting Record Procedures:

Same as above.

Record Source Categories:

Telephone assignment records; call detail listings; results of administrative inquiries relating to assignment of responsibilities for placement of specific long distance calls; government phone card bills.

EEOC-13

System Name:

Employee Identification Cards.

System Location:

Resource Management Division, Office of the Chief Financial Officer and Administrative Services, EEOC, 1801 L Street, NW., Washington DC 20507, and each of the field offices in Appendix A.

Categories of Individuals Covered by the System:

Current EEOC employees.

Categories of Records in the System:

Identification cards that include name, signature, social security number, date of issue and photograph, and list of all persons who possess current identification cards. In addition, for office locations permitting access by proximity cards, numbered proximity cards and list of all persons with their assigned proximity card numbers, all doors controlled by the proximity cards and all persons permitted access to each door.

Authority for Maintenance of System:

44 U.S.C. 3101; 41 CFR 101-20.3.

Purpose(s):

These records are maintained for the purpose of ensuring that EEOC offices and buildings are secure and that only authorized individuals have access to those offices and buildings.

Routine Uses of Records Maintained in the System, Including Categories of Users and the Purposes of Such Uses:

These records and information from these records may be used:

a. To provide information to a congressional office from the record of an individual in response to an inquiry from that congressional office made at the request of that individual.

b. To disclose to other government agencies and to the public whether an individual is a current employee of the EEOC.

c. To disclose information to another federal agency, to a court, or to a party in litigation before a court or in an administrative proceeding being conducted by a federal agency when the government is a party to the judicial or administrative proceeding.

d. To disclose pertinent information to the appropriate federal, state, or local agency responsible for investigating, prosecuting, enforcing or implementing a statute, rule, regulation or order, where the disclosing agency becomes aware of an indication of a violation or potential violation of civil or criminal law or regulation.

Policies and Practices for Storing, Retrieving, Accessing, Retaining, and Disposing of Records in the System:

Storage:

These records are maintained in file folders and on computer databases.

Retrievability:

Records are retrieved by employee name, by identification number, and, for proximity card holders, by proximity card number.

Safeguards:

Records are maintained and stored in file cabinets in a secured area to which only authorized personnel have access. Access to computerized records is limited, through use of access codes and entry logs, to those whose official duties require access.

Retention and Disposal:

Records are destroyed one year after termination of employment relationship.

System Manager(s) and Address:

Director, Resource Management Division, Office of Chief Financial Officer and Administrative Services, EEOC, 1801 L Street, NW., Washington DC, 20507, and the Directors of the field offices listed in Appendix A.

Notification Procedures:

Inquiries concerning this system of records should be addressed to the system manager. It is necessary to provide the following information: (1) Name; (2) social security number; (3) mailing address to which response is to be sent.

Record Access Procedures:

Same as above.

Contesting Record Procedures:

Same as above.

Record Source Categories:

Information contained in this system is obtained from the employee and, for proximity card holders, from his or her use of the assigned proximity card.

EEOC-14

System Name:

Employee Parking Records.

System Location:

Resource Management Division, Office of the Chief Financial Officer and Administrative Services, 1801 L Street, NW., Washington DC 20507.

Categories of Individuals Covered by the System:

EEOC employees who apply for or have been assigned parking spaces in the Headquarters building and members of their car pools.

Categories of Records in the System:

Application for parking space form and addendum form for members of car pools containing employee name, office and telephone number, signature and date, and list of employees with their assigned spaces.

Authority for Maintenance of System:

5 U.S.C. 301; 44 U.S.C. 3101; 41 CFR 101-20.1.

Purpose(s):

These records are maintained for the purpose of assigning parking spaces to EEOC headquarters employees in the building parking garage.

Routine Uses of Records Maintained in the System, Including Categories of Users and the Purposes of Such Uses:

These records and information from these records may be used:

a. To provide information to a congressional office from the record of an individual in response to an inquiry from that congressional office made at the request of that individual.

b. To disclose information in response to a request for discovery or for the appearance of a witness, to the extent that the information disclosed is relevant to the subject matter involved in the pending judicial or administrative proceeding.

c. To disclose information in a proceeding before a court or adjudicative body to the extent the information is relevant and necessary to the proceeding.

d. To disclose pertinent information to the appropriate Federal, State, or local agency responsible for investigating, prosecuting, enforcing or implementing a statute, rule, regulation or order, where the disclosing agency becomes aware of an indication of a violation or potential violation of civil or criminal law or regulation.

Policies and Practices for Storing, Retrieving, Accessing, Retaining, and Disposing of Records in the System:

Storage:

These records are maintained in file folders and electronically.

Retrievability:

Records are retrieved by employee name.

Safeguards:

Records are maintained and stored in file cabinets in a secured area to which only authorized personnel have access. Access to and use of the records are limited to those persons whose official duties require such access.

Retention and Disposal:

Records are disposed of upon termination of employment relationship or earlier release of assigned parking space.

System Manager(s) and Address:

Director, Resource Management Division, Office of the Chief Financial Officer and Administrative Services, EEOC, 1801 L Street, NW., Washington DC 20507.

Notification Procedures:

Inquiries concerning this system of records should be addressed to the system manager. It is necessary to provide the following information: (1) Name; (2) assigned parking space number or approximate date of application; (3) mailing address to which response is to be sent.

Record Access Procedures:

Same as above.

Contesting Record Procedures:

Same as above.

Record Source Categories:

Information contained in this system is obtained from the employee.

Systems Exempted from Certain Provisions of the Act:

None.

EEOC-15

System Name:

Internal Harassment Inquiries.

System Location:

Office of the Executive Secretariat, Equal Employment Opportunity Commission, 1801 L Street, NW., Washington, DC 20507.

Categories of Individuals Covered by the System:

Current or former EEOC employees who have submitted complaints or reports of harassment under EEOC Order 560.005, Prevention and Elimination of Harassment in the Workplace, and current and former EEOC employees who have been accused of harassment under that Order.

Categories of Records in the System:

The system contains all documents related to a complaint or report of harassment, including statements of witnesses, reports of interviews, investigator's and Coordinator's findings and recommendations, final decisions and corrective action taken, and related correspondence and exhibits.

Authority for Maintenance of the System:

29 U.S.C. 633a; 29 U.S.C. 791; 42 U.S.C. 2000e-16; 44 U.S.C. 3101; Exec. Order No. 11478, 34 FR 12985; Exec. Order No. 13087, 63 FR 30097.

Purpose(s):

These records are maintained for the purpose of conducting internal investigations into allegations of harassment brought by EEOC employees and taking appropriate action in accordance with EEOC Order 560.005.

Routine Uses of Records Maintained in the System, Including Categories of Users and the Purposes of Such Uses:

These records and information in these records may be used:

a. To disclose information as necessary to any source from which additional information is requested in the course of processing a complaint or report of harassment made pursuant to EEOC Order 560.005.

b. To disclose pertinent information to the appropriate federal, state or local agency responsible for investigating, prosecuting, enforcing, or implementing a statute, rule, regulation, or order, when the EEOC becomes aware of an indication of a violation or potential violation of civil or criminal law or regulation.

c. To disclose information to another federal agency, to a court, or to a party in litigation before a court or in an administrative proceeding being conducted by a federal agency when the government is a party to the judicial or administrative proceeding.

d. To provide information to a congressional office from the record of an individual in response to an inquiry from that congressional office made at the request of that individual.

e. To disclose to an authorized appeal grievance examiner, formal complaints examiner, administrative judge, equal employment opportunity investigator, arbitrator or other duly authorized official engaged in investigation or settlement of a grievance, complaint or appeal filed by an employee.

f. To disclose in response to a request for discovery or for appearance of a witness, information that is relevant to the subject matter involved in a pending judicial or administrative proceeding.

g. To disclose to the complaining party who filed the complaint or report of harassment and to the alleged harasser the outcome of any inquiry that may have been conducted and of disciplinary and corrective steps taken.

h. To provide to officials of labor organizations recognized under the Civil Service Reform Act information to which they are statutorily entitled when relevant and necessary to their duties of exclusive representation concerning personnel polices, practices, and matters affecting work conditions.

i. To provide to the Office Head of the office handling a statutory or collective bargaining claim whose subject matter is identical to that of a complaint or report of harassment filed under EEOC Order 560.005 written notice of the actions taken under the Order regarding that complaint or report.

Policies and Practices for Storing, Retrieving, Accessing, Retaining, and Disposing of Records in the System:

Storage:

These records are maintained in file folders and on computer databases.

Retrievability:

These records are cross-indexed by the name of the individual who files a complaint or report of harassment, the name of the alleged victim of harassment, if any, and the name of the alleged harasser. The records may be retrieved by any of the above three indexes.

Safeguards:

The records are maintained in locked metal filing cabinets to which only authorized personnel have access. Access to computerized records is limited, through use of access codes and entry logs, to those whose official duties require access.

Retention and Disposal:

These records are maintained for one year after the complaint or report of harassment is closed and then transferred to the Federal Records Center where they are destroyed after three years.

System Manager(s) and Address:

Coordinator of Complaints and Reports of Harassment, EEOC, 1801 L Street, NW., Washington, DC 20507.

System Exempted from Certain Provisions of the Act:

This system is exempt under 5 U.S.C. 552a(k)(2) from subsections (c)(3), (d), (e)(1), (e)(4)(G), (e)(4)(H), (e)(4)(I) and (f) of the Act.

EEOC-16

System Name:

Office of Inspector General Investigative Files.

System Location:

Office of Inspector General (OIG), Equal Employment Opportunity Commission (EEOC), 1801 L Street, NW, Washington, DC 20507.

Categories of Individuals Covered by the System:

Individuals who are subjects of investigations by the Office of Inspector General relating to the programs and operations of the Equal Employment Opportunity Commission. Subject individuals include, but are not limited to, current and former employees; current and former agents or employees of contractors and subcontractors in their personal capacity, where applicable; and other individuals whose actions affect the EEOC, its programs or operations.

Categories of Records in the System:

Correspondence relating to the investigation; internal staff memoranda; copies of subpoenas issued during the investigation, affidavits, statements from witnesses, transcripts of testimony taken during the investigation, and accompanying exhibits; documents, notes, investigative notes, staff working papers, draft materials and other documents and records relating to the investigation; opening reports, progress reports, and closing reports; and other investigatory information or data relating to the alleged or suspected criminal, civil, or administrative violations or similar wrongdoing by subject individuals.

Authority for Maintenance of the System:

The Inspector General Act of 1978, as amended, 5 U.S.C. App.3.

Purpose(s):

Pursuant to the Inspector General Act of 1978, as amended, this system of records is maintained for the purpose of: (1) Documenting the conduct and outcome of investigations by the OIG and other investigative agencies regarding EEOC programs and operations; (2) reporting the results of investigations to other Federal agencies, other public authorities or professional organizations which have the authority to bring criminal prosecutions, or civil or administrative actions, or to impose other disciplinary sanctions; (3) maintaining a record of the activities which were the subject of investigations; (4) reporting investigative findings to other components of EEOC for their use in operating and evaluating their programs or operations, and in the imposition of civil or administrative sanctions; (5) coordinating relationships with other Federal agencies, state and local governmental agencies and nongovernmental entities in matters relating to the statutory responsibilities of the OIG; and (6) acting as a repository and source for information necessary to fulfill the reporting requirements of the Inspector General Act, 5 U.S.C. App.3.

Routine Uses of Records Maintained in the System, Including Categories of Users and Purposes of Such Uses:

a. To disclose pertinent information to the appropriate federal, state or local agency responsible for investigating, prosecuting, enforcing or implementing a statute, rule, regulation or order, where the EEOC becomes aware of an indication of a violation or potential violation of civil or criminal law or regulation.

b. To disclose information to any source, private or governmental, to the extent necessary to secure from such source information relevant to and in furtherance of a legitimate OIG investigation, audit, inspection, or other inquiry.

c. To disclose information to agencies, offices or establishments of the executive, legislative, or judicial branches of the Federal or state governments:

(1) Where such agency, office, or establishment has an interest in an individual for employment purposes, including a security clearance or determination as to access to classified information, and needs to evaluate the individual's qualifications, suitability, or loyalty to the United States Government, or access to classified information or restricted areas, or

(2) Where such agency, office, or establishment conducts an investigation of the individual for purposes of granting a security clearance, or for making a determination of qualifications, suitability or loyalty to the United States Government, or access to classified information or restricted areas, or

(3) Where the records or information in those records is relevant and necessary to a decision with regard to the hiring or retention of an employee or disciplinary or other administrative action concerning an employee.

d. To disclose information to another federal agency, to a court, or to a party in litigation before a court or in an administrative proceeding being conducted by a federal agency when the government is a party to the judicial or administrative proceeding.

e. To disclose information to a Congressional office from the record of an individual in response to an inquiry from the Congressional office made at the written request of that individual.

f. To private contractors who have been retained by OIG to perform any functions or analyses that facilitate or are relevant to an OIG investigation, audit, inspection, or inquiry.

Policies and Practices for Storing, Retrieving, Accessing, Retaining, and Disposing of Records in the System:

Storage:

The OIG Investigative Files consist of paper records maintained in file folders, cassette tapes of interviews and an automated data base maintained on computer diskettes.

Retrievability:

The records are retrieved by the name of the subject of the investigation or by a unique control number assigned to each investigation.

Safeguards:

The folders, cassettes and diskettes are stored in locked file cabinets in the OIG. Access is restricted to EEOC personnel whose official duties require such access.

Retention and Disposal:

Records are held for five (5) years and then retired to the Federal Records Center.

System Manager(s) and Address:

Inspector General, Equal Employment Opportunity Commission, P. O. Box 18858, Washington, DC 20036-8858.

System Exempted from Certain Provisions of the Act:

Specific: Pursuant to 5 U.S.C. 552a(k)(2) the Office of Inspector General Investigative Files are exempt from subsections (c)(3), (d)(1), (d)(2) and (e)(1) of the Privacy Act.

General: Pursuant to 5 U.S.C. 552a(j)(2), investigatory materials compiled for criminal law enforcement in the Office of Inspector General Investigative Files are exempt from subsections (c)(3), (d)(1), (d)(2), (e)(1), (e)(2), and (e)(3) of the Privacy Act.

EEOC-17

System Name:

Defensive Litigation Files.

System Location:

Office of Legal Counsel, Equal Employment Opportunity Commission, 1801 L Street, NW., Washington, DC 20507.

Categories of Individuals Covered by the System:

Individuals who have filed civil or administrative litigation against EEOC and individuals who have given sworn testimony, affidavits, or declarations under penalty of perjury in such actions.

Categories of Records in the System:

This system contains all documents related to litigation brought against the Commission. These records include:

a. Documents submitted or filed by plaintiffs, grievants, and EEO complainants to prosecute civil or administrative litigation against the EEOC, such as complaints, grievances, unfair labor practice claims, motions and briefs.

b. Documents submitted by the EEOC to defend the action against it such as an answer to a civil complaint or a motion to dismiss or for summary judgment, and a reply to an administrative EEO complaint, grievance, or unfair labor practice.

c. Administrative determinations at issue in the litigation such as final agency EEO decisions, final grievance decisions, final decisions on personnel actions, final agency administrative dispositions of tort claims, and agency determinations under the Freedom of Information Act.

d. Discovery and investigatory materials such as witness statements, affidavits, declarations under penalty of perjury, correspondence, records, exhibits and other documentary evidence.

e. Litigation materials, such as attorney work product, attorney notes, hearing transcripts, legal memoranda, and related correspondence and exhibits.

e. Final judgments, orders, decisions, decrees, and settlement agreements.

Authority for Maintenance of the System:

44 U.S.C. 3101.

Purpose(s):

These records are maintained for the purpose of defending EEOC in litigation brought against it by current and former employees, charging parties, respondents and members of the public.

Routine Uses of Records Maintained in the System, Including Categories of Users and the Purposes of Such Uses:

These records and information in these records may be used:

a. To disclose pertinent information as may be appropriate or necessary for the Commission to defend itself in a civil action or administrative proceeding, or to seek enforcement of a settlement, order or final decision involving the same or a similar matter.

b. To provide information to a congressional office in response to an inquiry from the congressional office made at the request of a party to the administrative or civil proceeding to which the record pertains.

c. To disclose pertinent information to an appropriate federal court, agency or administrative body responsible for investigating, prosecuting, enforcing or implementing a statute, rule, regulation or order, where the EEOC becomes aware of an indication of a violation or potential violation of civil or criminal law or regulation, or in order to seek enforcement or clarification of an order or decision for or against the EEOC to which the record pertains.

d. To disclose information to another federal agency or to a court when the government is a party to the judicial or administrative proceeding.

e. To disclose, in response to an order, information that is relevant to a pending judicial or administrative proceeding.

Policies and Practices for Storing, Retrieving, Accessing, Retaining, and Disposing of Records in the System:

Storage:

These records are maintained in locked filing system. Information identifying existing files is maintained in electronic form accessible by computer.

Retrievability:

These records are cross-indexed by name of the plaintiff/complainant/grievant/aggrieved individual, and Office of Legal Counsel reference number. The records may be retrieved by either index.

Safeguards:

Paper records maintained at EEOC headquarters are kept in locked cabinets in the Office of Legal Counsel. Access to and use of these records is limited to those persons whose official duties require such access. The premises are locked evenings, weekends and holidays. Paper records which have been retired are maintained at the Federal Records Center. Access to computerized records is limited, through use of passwords, to those whose official duties require access, input and retrieval of information.

Retention and Disposal:

Two years after the date of closure of the underlying civil or administrative action (e.g., final order, decision on appeal), records pertaining to that action are retired to the Federal Records Center. Thereafter, files are destroyed seven years after the date of closure of the underlying action.

System Manager(s) and Address:

Deputy Legal Counsel, Office of Legal Counsel, Equal Employment Opportunity Commission, 1801 L Street, NW. Washington, DC 20507.

Notification Procedures:

Any person wanting to know whether this system of records contains information about him or her should contact the System Manager. Such person should provide his or her full name, date of birth, social security number, and mailing address to which a response is to be sent, and forum, filing date, and docket number of the action involved, if available.

Record Access Procedures:

The records described herein are compiled in reasonable anticipation of a civil action or proceeding. Pursuant to section (d)(5) of the Privacy Act of 1974, as amended, 5 U.S.C. 552a(d)(5), an individual is precluded from access to such records.

Contesting Records Procedures:

Same as the Notification Procedures above.

Record Source Categories:

Plaintiffs, grievants, complainants, aggrieved individuals, current and former EEOC employees.

EEOC-18

System Name:

Reasonable Accommodation Records.

System Location:

All locations listed in Appendix A and all headquarters offices, 1801 L Street, NW., Washington, DC 20507.

Categories of Individuals Covered by the System:

Current and former EEOC employees and applicants who have requested reasonable accommodations under the Rehabilitation Act of 1973.

Categories of Records in the System:

Requests for reasonable accommodations; medical records; notes or records made during consideration of requests; decisions on requests; records made to implement or track decisions on requests.

Authority for Maintenance of the System:

The Rehabilitation Act of 1973, 29 U.S.C. 791; E.O. 13164.

Purpose(s):

This system is maintained for the purpose of considering, deciding and implementing requests for reasonable accommodation made by EEOC employees and applicants.

Routine Uses of Records Maintained in the System, Including Categories of Users and the Purposes of Such Uses:

a. To disclose information to medical personnel to meet a bona fide medical emergency.

b. To disclose information to another Federal agency, to a court, or a party in litigation before a court or in an administrative proceeding being conducted by a Federal agency when the Government is a party to the judicial or administrative proceeding.

c. To disclose information to a congressional office from the record of an individual in response to an inquiry from the congressional office made at the request of the individual.

d. To disclose to an authorized appeal grievance examiner, formal complaints examiner, administrative judge, equal employment opportunity investigator, arbitrator or other duly authorized official engaged in investigation or settlement of a grievance, complaint or appeal filed by an employee.

Policies and Practices for Storing, Retrieving, Accessing, Retaining and Disposing of Records in the System:

Storage:

Maintained in file folders and on computer databases.

Retrievability:

Indexed by name of employee or applicant.

Safeguards:

Files are maintained in locked cabinets. Access is restricted to EEOC personnel whose official duties require such access. Access to computerized records is limited, through use of access codes and entry logs, to those whose official duties require access.

Retention and Disposal:

These records will be maintained for the longer of an employee's tenure with EEOC, or for 5 years. Thereafter, they will be destroyed.

System Manager(s) and Address:

Disability Program Manager, Office of Equal Opportunity, EEOC, 1801 L Street, NW., Washington, DC 20507.

EEOC/GOVT-1

System Name:

Equal Employment Opportunity in the Federal Government Complaint and Appeal Records.

System Location:

Equal employment opportunity complaint files are maintained in an Office of Equal Employment Opportunity or other designated office of the agency or department where the complaint was filed. EEO Appeal files (including appeals from final negotiated grievance decisions involving allegations of discrimination) and petitions for review of decisions of the Merit Systems Protection Board are maintained in the Office of Federal Operations, Equal Employment Opportunity Commission, Washington, DC 20507 and in EEOC field offices (see Appendix A).

Categories of Individuals Covered by the System:

Applicants for federal employment and current and former federal employees who contact an EEO counselor or who file complaints of discrimination or reprisal with their agency, or who file appeals on EEO complaints, petitions for review of decisions of the Merit Systems Protection Board, or appeals of final decisions in negotiated grievance actions involving allegations of discrimination.

Categories of Records in the System:

This system of records contains information or documents compiled during the pre-complaint counseling and the investigation of complaints filed under section 717 of Title VII, section 15 of the Age Discrimination in Employment Act, section 501 of the Rehabilitation Act, and the Equal Pay Act and all appeals.

Authority for Maintenance of System:

42 U.S.C. 2000e-16(b) and (c); 29 U.S.C. 204(f) and 206(d); 29 U.S.C. 633(a); 29 U.S.C. 791; Reorg. Plan No. 1 of 1978, 43 FR 19607 (May 9, 1978); Exec. Order No. 12106, 44 FR 1053 (Jan. 3, 1979).

Purpose(s):

These records are maintained for the purpose of counseling, investigating and adjudicating complaints of employment discrimination brought by applicants and current and former federal employees against federal employers.

Routine Uses of Records Maintained in the System, Including Categories of Users and the Purposes of Such Uses:

These records and information in these records may be used:

a. To disclose pertinent information to the appropriate federal, state, or local agency responsible for investigating, prosecuting, enforcing, or implementing a statute, rule, regulation, or order, where the disclosing agency becomes aware of an indication of a violation or potential violation of civil or criminal law or regulation.

b. To disclose information to another federal agency, to a court, or to a party in litigation before a court or in an administrative proceeding being conducted by a federal agency when the government is a party to the judicial or administrative proceeding.

c. To provide information to a congressional office from the record of an individual in response to an inquiry from that congressional office made at the request of that individual.

d. To disclose to an authorized appeal grievance examiner, formal complaints examiner, administrative judge, equal employment opportunity investigator, arbitrator or other duly authorized official engaged in investigation or settlement of a grievance, complaint or appeal filed by an employee.

e. To disclose, in response to a request for discovery or for appearance of a witness, information that is relevant to the subject matter involved in a pending judicial or administrative proceeding.

f. To disclose information to officials of state or local bar associations or disciplinary boards or committees when they are investigating complaints against attorneys in connection with their representation of a party before EEOC.

g. To disclose to a Federal agency in the executive, legislative, or judicial branch of government, in response to its request information in connection with the hiring of an employee, the issuance of a security clearance, the conducting of a security or suitability investigation of an individual, the classifying of jobs, or the lawful statutory, administrative, or investigative purpose of the agency to the extent that the information is relevant and necessary to the requesting agency's decision.

h. To disclose information to employees of contractors engaged by an agency to carry out the agency's responsibilities under 29 CFR part 1614.

i. To disclose information to potential witnesses as appropriate and necessary to perform the agency's functions under 29 CFR part 1614.

Policies and Practices for Storing, Retrieving, Accessing, Retaining, and Disposing of Records in the System:

Storage:

These records are maintained in file folders and in computer databases.

Retrievability:

These records are indexed by the names of the individuals on whom they are maintained.

Safeguards:

Access to and use of these records are limited to those persons whose official duties require such access.

Retention and Disposal:

These records are maintained for one year after resolution of the case and then transferred to the Federal Records Center where they are destroyed after three years.

System Manager(s) and Address:

Within the agency or department where the complaint of discrimination or reprisal was filed, the system manager is the Director of the Office of Equal Employment Opportunity or other official designated as responsible for the administration and enforcement of equal employment opportunity laws and regulations within the agency or department.

Where an individual has appealed an EEO complaint or final negotiated grievance decision to the EEOC or petitioned the EEOC to review a decision of the Merit Systems Protection Board, the system manager of the appeal or petition file is the Director, Office of Federal Operations, Equal Employment Opportunity Commission, Washington, DC 20507.

Systems Exempted from Certain Provisions of the Act:

Pursuant to subsection (k)(2) of the Privacy Act, 5 U.S.C. 552a(k)(2), this system of records is exempt from subsections (c)(3), (d), (e)(1), (e)(4)(G), (e)(4)(H), (e)(4)(I) and (f) of the Act.

Appendix A

U.S. EEOC Albuquerque District Office, 505 Marquette Street, NW., Suite 900, Albuquerque, New Mexico 87102-2158.

U.S. EEOC Atlanta District Office, 100 Alabama Street, SW, Suite 4R30, Atlanta, Georgia 30303.

U.S. EEOC Baltimore District Office, City Crescent Building, 10 South Howard Street, 3rd Floor, Baltimore, Maryland 21201-2526.

U.S. EEOC Birmingham District Office, Ridge Park Place, 1130 22nd Street, Suite 2000, Birmingham, Alabama 32205.

U.S. EEOC Boston Area Office, John F. Kennedy Fed Bldg., 2400 Government Center, Rm 475, East Tower, Boston, Massachusetts 02114.

U.S. EEOC Buffalo Local Office, 6 Fountain Plaza, Suite 350, Buffalo, New York 14202.

U.S. EEOC Charlotte District Office, 129 West Trade Street, Suite 400, Charlotte, North Carolina 28202.

U.S. EEOC Chicago District Office, 500 West Madison Street, Suite 2800, Chicago, Illinois 60661.

U.S. EEOC Cincinnati Area Office, 550 Main Street, Suite 10019, Cincinnati, Ohio 45202.

U.S. EEOC Cleveland District Office, Tower City—Skylight Office Tower, 1660 West Second Street, Suite 850, Cleveland, Ohio 44113-1454.

U.S. EEOC Dallas District Office, 207 South Houston Street, 3rd Floor, Dallas, Texas 75202-4726.

U.S. EEOC Denver District Office, 303 East 17th Avenue, Suite 510, Denver, Colorado 80203.

U.S. EEOC Detroit District Office, 477 Michigan Avenue, Room 865, Detroit, Michigan 48226-9704.

U.S. EEOC El Paso Area Office, The Commons Building C, Suite 100, 4171 North Mesa Street, El Paso, Texas 79902.

U.S. EEOC Fresno Local Office, 1265 West Shaw Avenue, Suite 103, Fresno, California 93711.

U.S. EEOC Greensboro Local Office, 2303 W. Meadowview Road, Suite 201, Greensboro, North Carolina 27405-7813.

U.S. EEOC Greenville Local Office, Wachovia Bldg., 301 North Main Street, Suite 1420, Greenville, South Carolina 29601.

U.S. EEOC Honolulu Local Office, 300 Ala Moana Boulevard, Room 7123-A, P.O. Box 50082, Honolulu, Hawaii 96850-0051.

U.S. EEOC Houston District Office, 1919 Smith Street, 7th Floor, Houston, Texas 77002.

U.S. EEOC Indianapolis District Office, 101 West Ohio Street, Suite 1900, Indianapolis, Indiana 46204-4203.

U.S. EEOC Jackson Area Office, 100 West Capitol Street, Suite 207, Jackson, Mississippi 39269.

U.S. EEOC Kansas City Area Office, 400 State Avenue, Suite 905, Kansas City, Missouri 66101.

U.S. EEOC Little Rock Area Office, 425 West Capitol Avenue, Suite 625, Little Rock, Arkansas 72201.

U.S. EEOC Los Angeles District Office, 255 East Temple Street, 4th Floor, Los Angeles, California 90012.

U.S. EEOC Louisville Area Office, 600 Dr. Martin Luther King Jr., Pl., Suite 268, Louisville, Kentucky 40202.

U.S. EEOC Memphis District Office, 1407 Union Avenue, Suite 621, Memphis, Tennessee 38104.

U.S. EEOC Miami District Office, One Biscayne Tower, 2 South Biscayne Boulevard, Suite 2700, Miami, Florida 33131.

U.S. EEOC Milwaukee District Office, 310 West Wisconsin Avenue, Suite 800, Milwaukee, Wisconsin 53203-2292.

U.S. EEOC Minneapolis Local Office, 330 South 2nd Avenue, Suite 430, Minneapolis, Minnesota 55401-2224.

U.S. EEOC Nashville Area Office, 50 Vantage Way, Suite 202, Nashville, Tennessee 37228-9940.

U.S. EEOC Newark Area Office, One Newark Center, 21st Floor, Newark, New Jersey 07102-5233.

EEOC New Orleans District Office, 701 Loyola Avenue, Suite 600, New Orleans, Louisiana 70113-9936.

U.S. EEOC New York District Office, 201 Varick Street, Room 1009, New York, New York 10014.

U.S. EEOC Norfolk Area Office, Federal Building, Suite 739, 200 Granby Street, Norfolk, Virginia 23510.

U.S. EEOC Oakland Local Office, 1301 Clay Street, Suite 1170-N, Oakland, California 94612-5217.

U.S. EEOC Oklahoma Area Office, 210 Park Avenue, Suite 1350, Oklahoma City, Oklahoma 73102.

U.S. EEOC Philadelphia District Office, 21 South 5th Street, Suite 400, Philadelphia, Pennsylvania 19106.

U.S. EEOC Phoenix District Office, 3300 North Central Avenue, Suite 690, Phoenix, Arizona 85012-2504.

U.S. EEOC Pittsburgh Area Office, 1001 Liberty Avenue, 3rd Floor, Pittsburgh, Pennsylvania 15222-4187.

U.S. EEOC Raleigh Area Office, 1309 Annapolis Drive, Raleigh, North Carolina 27608-2129.

U.S. EEOC Richmond Area Office, 830 East Main Street, 6th Floor, Richmond, Virginia 23219.

EEOC San Antonio District Office, 5410 Fredericksburg Road, Suite 200, San Antonio, Texas 78229-3555.

U.S. EEOC San Diego Area Office, 401 B Street, Suite 1550, San Diego, California 92101.

EEOC San Francisco District Office, 901 Market Street, Suite 500, San Francisco, California 94103.

U.S. EEOC San Jose Local Office, 96 North 3rd Street, Suite 200, San Jose, California 95112.

San Juan Area Office, 525 F.D. Roosevelt Ave., Plaza Las Americas, Suite 1202, San Juan, Puerto Rico 00918-8001.

U.S. EEOC Savannah Local Office, 410 Mall Boulevard, Suite G, Savannah, Georgia 31406-4821.

U.S. EEOC Seattle District Office, Federal Office Building, 909 First Avenue, Suite 400, Seattle, Washington 98104-1061.

U.S. EEOC St. Louis District Office, Robert A. Young Building, 1222 Spruce Street, 8th Floor, Room 8.100, St. Louis, Missouri 63103.

U.S. EEOC Tampa Area Office, 501 East Polk Street, Room 1020, Tampa, Florida 33602.

U.S. EEOC Washington Field Office, 1400 L Street, NW, Suite 200, Washington, DC 20005.

[FR Doc. 02-18895 Filed 7-29-02; 8:45 am]

BILLING CODE 6570-01-P